DEPARTMENT OF HOMELAND SECURITY

Coast Guard

[Docket No. USCG-2010-0164]

National Boating Safety Advisory Committee; May 2023 Meetings

AGENCY: U.S. Coast Guard, Department of Homeland Security.

ACTION: Notice of Federal Advisory Committee Meeting.

SUMMARY: The National Boating Safety Advisory Committee (Committee) will conduct a series of meetings over three days in Annapolis, MD to discuss matters relating to recreational boating safety. The meetings will be open to the public via a virtual platform. There is also limited in-person access.

DATES:

Meetings: The National Boating Safety Advisory Committee will meet on Wednesday, May 10, 2023, from 3:30 p.m. until 5 p.m., Eastern Daylight Time (EDT), Thursday, May 11, 2023, from 8 a.m. until 4:30 p.m. (EDT) and on Friday, May 12, 2023, from 8 a.m. until 12 p.m. (EDT). The Boats and Associated Equipment, Prevention Through People and Strategic Planning Subcommittees will meet on Wednesday May 10, 2023, from 12:30 p.m. until 3:15 p.m. (open to public). Please note these meetings may adjourn early if the Committee has completed its business.

Comments and supporting documentation: To ensure your comments are received by Committee members before the meeting, submit your written comments no later than May 3, 2023.

ADDRESSES: The meeting will be held at the American Boat and Yacht Council at 613 Third Street, Suite 10, Annapolis, MD 21403 (www.abycinc.org.).

Pre-registration information: Pre-registration is required for in-person access to the meeting, and for any attending via virtual. In-person attendance to the meeting will be limited to the first 50 registrants, with priority for members of the Committee and U.S. Coast Guard support staff to the Committee. If you are not a member of the Committee and/or U.S. Coast Guard support staff to the Committee, you must request in-person attendance by contacting the individual listed in the FOR FURTHER INFORMATION CONTACT section of this notice. You will receive a response noting if you are able to attend in-person or if the in-person roster is full. Additionally, the NBSAC mailing list will receive a notification when the in-person attendance roster is full.

Teleconference lines and live virtual document sharing will be available for the full meeting of the Committee.

The National Boating Safety Advisory Committee is committed to ensuring all participants have equal access regardless of disability status. If you require reasonable accommodation due to a disability to fully participate, please email Mr. Jeff Decker at NBSAC@uscg.mil or call 202-372-1507 as soon as possible.

Instructions: You are free to submit comments at any time, including orally at the meeting, but if you want Committee members to review your comments before the meeting, please submit your comments no later than May 3, 2023. We are particularly interested in comments on the topics in the “Agenda” section below. We encourage you to submit comments through the Federal eRulemaking Portal at https://www.regulations.gov. If your material cannot be submitted using https://www.regulations.gov, email the individual in the FOR FURTHER INFORMATION CONTACT section of this document for alternate instructions. You must include the docket number [USCG-2010-0164]. Comments received will be posted without alteration at http://www.regulations.gov, including any personal information provided. You may wish to view the Privacy and Security Notice available on https://www.regulations.gov. For more about the Privacy and submissions in response to this document, see DHS's eRulemaking System of Records notice (85 FR 14226, March 11, 2020). If you encounter technical difficulties with comment submission, contact the individual listed in the FOR FURTHER INFORMATION CONTACT section of this notice.

Docket Search: Documents mentioned in this notice as being available in the docket, and all public comments, will be in our online docket at https://www.regulations.gov and can be viewed by following that website's instructions. Additionally, if you go to the online docket and sign-up for email alerts, you will be notified when comments are posted.

FOR FURTHER INFORMATION CONTACT: Mr. Jeff Decker, Alternate Designated Federal Officer of the National Boating Safety Advisory Committee, telephone 202-372-1507 or email NBSAC@uscg.mil.

SUPPLEMENTARY INFORMATION: Notice of this meeting is in compliance with the Federal Advisory Committee Act, (Pub. L. 117-286, 5 U.S.C., ch. 10). The National Boating Safety Advisory Committee is authorized by section 601 of the Frank LoBiondo Coast Guard Authorization Act of 2018 and is codified in 46 U.S.C. 15105. The Committee operates under the provisions of the Federal Advisory Committee Act and 46 U.S.C. 15109. The National Boating Safety Advisory Committee provides advice and recommendations to the Secretary of Homeland Security through the Commandant of the U.S. Coast Guard on matters relating to recreational vessels and associated equipment and on other safety matters related to recreational vessels.

Agenda

The agenda for the National Boating Safety Advisory Committee meeting is as follows:

Day 1

Wednesday, May 10, 2023

Subcommittee Meetings

(1) Boats and Associated Equipment Subcommittee—Discussion of Task Statement 2022-01.

(2) Strategic Planning Subcommittee—Discussion of Task Statement 2022-02.

(3) Prevention through People Subcommittee—Discussion of Task Statement 2022-03.

Full Committee Meeting

(1) Call to order.

(2) Roll call of Committee members and determination of quorum.

(3) Opening remarks.

(4) Swearing in of new members.

(5) Approval of Committee 5 meeting minutes.

(6) Public comment period.

(7) Meeting recess.

Day 2

Thursday, May 11, 2023

The full Committee will resume meeting.

(1) Call to order.

(2) Report of the Boating Safety Division.

(a) Status of National Recreational Boating Safety Survey.

(b) Status of U.S. Coast Guard Mobile Application.

(c) Proposed Calendar for future Committee meetings.

(d) Incident Reporting Gap Analysis.

(e) Common Deficiencies during Boat Inspections and Tests.

(f) Incident Rates in States with Licenses.

(g) Preemption Letter to States on ECOS and Fire Protection.

(h) Certificate of Number Fee Policy Update.

(i) Recreational Incident Reporting Policy Update.

(j) eFoil and Jetboard Compliance Update.

(k) Notice of Funding Opportunity for Nonprofit Organization Grant Program.

(l) Estimated Allocation for State Grant Program.

(m) Restricted Operator of Uninspected Passenger Vessel Credential Policy Update.

(n) National RBS Program Instruction Update.

(o) Regulatory Update.

(3) Right Whale Protection Rule Update.

(4) RBS Program Communications Plan Development.

(5) HIN Policy Update.

(6) 2022-2026 National RBS Program Strategic Plan Update.

(7) State of Principal Use for CON Issuance Update.

(8) Breakout sessions for Subcommittees.

(9) Public comment period.

(10) Meeting recess.

Day 3

Friday, May 12, 2023

The full Committee will resume meeting.

(1) Call to order.

(2) Report from Strategic Planning Subcommittee to the full Committee.

(3) Report from Prevention through People Subcommittee to the full Committee.

(4) Report from the Boats and Associated Equipment Subcommittee to the full Committee.

(5) Discussion of Subcommittee recommendations and Committee Actions.

(6) Full Committee Open Discussion of Boating Safety Related Topics.

(7) Public comment period.

(8) Voting on any recommendations to be made to the U.S. Coast Guard.

(9) Administration.

(10) Closing remarks.

(11) Adjournment of meeting.

A copy of all meeting documentation will be available at https://homeport.uscg.mil/Lists/Content/DispForm.aspx?ID=75937&Source=/Lists/Content/DispForm.aspx?ID=75937 by May 3, 2023. Alternatively, you may contact Mr. Jeff Decker as noted in the FOR FURTHER INFORMATION section above.

During the May 10 and May 11, 2023 meetings, a public comment period will be held from approximately 4:00 p.m.-4:15 p.m. (EDT). Public comments will be limited to three minutes per speaker. Please note that the public comment periods will end following the last call for comments. Please contact the individual listed in the FOR FURTHER INFORMATION CONTACT section, to register as a speaker.

Dated: March 30, 2023.
Amy M. Beach,
Captain, U.S. Coast Guard, Director of Inspections and Compliance.

[FR Doc. 2023-06932 Filed 4-3-23; 8:45 am]

BILLING CODE 9110-04-P